DEPARTMENT OF ENERGY

Federal Energy Regulatory Commission

[Project No. 2322-067]

Brookfield White Pine Hydro LLC; Notice of Application Accepted for Filing, Soliciting Comments, Protests, and Motions To Intervene

Take notice that the following hydroelectric application has been filed with the Commission and is available for public inspection:

a. Type of proceeding: Extension of license term.

b. Project No: P-2322-067.

c. Date Filed: August 1, 2018.

d. Licensee: Brookfield White Pine Hydro LLC.

e. Name and location of project: Shawmut Hydroelectric Project, located on the Kennebec River in Somerset County, Maine.

f. Filed Pursuant to: Federal Power Act, 16 U.S.C. 791a-825r.

g. Applicant Contact: Kelly Maloney, Northeast Compliance Manager, Brookfield White Pine Hydro LLC, 150 Main Street, Lewiston, ME 04240; (207) 775-5606.

h. FERC Contact: B. Peter Yarrington at (202) 502-6129, or peter.yarrington@ferc.gov.

i. Deadline for filing comments, motions to intervene, and protests: 30 days from the issuance of this notice by the Commission. The Commission strongly encourages electronic filing. Please file motions to intervene, protests, comments, and recommendations, using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include the docket number P-2322-067.

j. Description of Proceeding: Brookfield White Pine Hydro LLC, licensee for the Shawmut Project, requests a 1-year extension of the term of the project license, from January 31, 2021, to January 31, 2022. The extension would give the licensee an additional year to file its Final License Application (FLA) for the project, which would then be due January 31, 2020. The licensee indicates that the extension would not affect any other submittal deadlines under the existing relicensing schedule.

The licensee requests an extension of the license term so that it can complete, cooperatively with state and federal resource agencies and other entities, a feasibility assessment of options to provide multi-dam fish passage on the Kennebec River. The options would include, but not be limited to, alternative designs included in the approved Interim Species Protection Plan (Interim SPP) for the Shawmut Project, Weston Project (P-2325), and Lockwood Project (P-2574), as well as the approved Interim SPP for the Hydro-Kennebec Project (P-2611). These two Interim SPPs were developed for the projects to help ensure the protection of, and passage for, Atlantic salmon that use the Kennebec River and that are listed as endangered under the Endangered Species Act. The licensee proposes to develop, in consultation with the resource agencies, a single basin-wide Final SPP and draft Biological Assessment for the four projects together, which would be filed ahead of the December 31, 2019 expiration of the Interim SPPs, and concurrently with the Shawmut Project FLA. The licensee included with its request correspondence from the National Marine Fisheries Service, U.S. Fish and Wildlife Service, Maine Department of Marine Resources, and Maine Department of Inland Fisheries and Wildlife supporting the request.

k. This notice is available for review and reproduction at the Commission in the Public Reference Room, Room 2A, 888 First Street NE, Washington, DC 20426. The filing may also be viewed on the Commission's website at http://www.ferc.gov/docs-filing/elibrary.asp. Enter the Docket number (P-2322-067) excluding the last three digits in the docket number field to access the notice. You may also register online at http://www.ferc.gov/docs-filing/esubscription.asp to be notified via email of new filings and issuances related to this or other pending projects. For assistance, call toll-free 1-866-208-3676, or email FERCOnlineSupport@ferc.gov. For TTY, call (202) 502-8659.

l. Individuals desiring to be included on the Commission's mailing list should so indicate by writing to the Secretary of the Commission.

m. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on, or before, the specified comment date for the particular application.

n. Filing and Service of Responsive Documents: Any filing must: (1) Bear in all capital letters the title COMMENTS, PROTEST, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to the request to extend the license term. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: August 16, 2018.
Nathaniel J. Davis, Sr.,
Deputy Secretary.

[FR Doc. 2018-18100 Filed 8-21-18; 8:45 am]

BILLING CODE 6717-01-P